ENVIRONMENTAL PROTECTION AGENCY

40 CFR Part 63

[EPA-HQ-OAR-2010-0544; FRL-9921-62-OAR ]

RIN 2060-AQ40

National Emission Standards for Hazardous Air Pollutants: Secondary Aluminum Production; Extension of Comment Period

AGENCY: Environmental Protection Agency.

ACTION: Supplemental notice of proposed rulemaking; extension of public comment period.

SUMMARY: The Environmental Protection Agency (EPA) is announcing that the period for providing public comments on the December 8, 2014, supplemental proposed rule titled “National Emission Standards for Hazardous Air Pollutants: Secondary Aluminum Production” is being extended for 15 days.

DATES: Comments. The public comment period for the supplemental proposed rule published in the Federal Register on December 8, 2014 (79 FR 72874), is being extended for 15 days to February 6, 2015, in order to provide the public additional time to submit comments and supporting information.

ADDRESSES: Comments. Written comments on the supplemental proposed rule may be submitted to the EPA electronically, by mail, by facsimile or through hand delivery/courier. Please refer to the supplemental proposal (79 FR 72874) for the addresses and detailed instructions.

Docket. Publicly available documents relevant to this action are available for public inspection either electronically at http://www.regulations.gov or in hard copy at the EPA Docket Center, Room 3334, 1301 Constitution Avenue NW., Washington, DC. The Public Reading Room is open from 8:30 a.m. to 4:30 p.m., Monday through Friday, excluding legal holidays. A reasonable fee may be charged for copying. The official public docket for this rulemaking is Docket ID No. EPA-HQ-OAR-2010-0544.

World Wide Web. The EPA Web site for this rulemaking is at http://www.epa.gov/ttn/atw/alum2nd/alum2pg.html.

FOR FURTHER INFORMATION CONTACT: Ms. Rochelle Boyd, Metals and Inorganic Chemicals Group (D243-02), Sector Policies and Programs Division, Office of Air Quality Planning and Standards, U.S. Environmental Protection Agency, Research Triangle Park, North Carolina 27711; Telephone number: (919) 541-1390; Fax number (919) 541-3207; Email address: boyd.rochelle@epa.gov.

SUPPLEMENTARY INFORMATION:

Comment Period

After considering a request to extend the public comment period, the EPA has decided to extend the public comment period for an additional 15 days. Therefore, the public comment period will end on February 6, 2015, rather than January 22, 2015. This extension will help ensure that the public has sufficient time to review the proposed rule and the supporting technical documents and data available in the docket.

Dated: January 6, 2015.
Stephen D. Page,
Director, Office of Air Quality Planning and Standards.

[FR Doc. 2015-00460 Filed 1-14-15; 8:45 am]

BILLING CODE 6560-50-P